DEPARTMENT OF AGRICULTURE

Forest Service

Nez Perce-Clearwater National Forests; Idaho; Land Management Plan Revision for the Nez Perce-Clearwater National Forests

AGENCY: Forest Service, Agriculture (USDA).

ACTION: Notice of opportunity to object to the revised land management plan and Regional Forester's list of species of conservation concern for the Nez Perce-Clearwater National Forests.

SUMMARY: The Forest Service is revising the Nez Perce and Clearwater National Forests' 1987 Land and Resource Management Plans. The Forest Service has prepared a final environmental impact statement (EIS) for the revised land management plan and a draft record of decision (ROD).

This notice is to inform the public that the Nez Perce-Clearwater National Forests are initiating a 60-day period where individuals or entities with specific concerns about the revised land management plan and the associated final EIS may file objections for Forest Service review prior to the approval of the revised land management plan. This is also an opportunity to object to the Regional Forester's list of species of conservation concern on the Nez Perce-Clearwater National Forests.

DATES: The publication date of the legal notice in the Nez Perce-Clearwater National Forests' newspaper of record, Lewiston Morning Tribune, initiates the 60-day objection filing period and is the exclusive means for calculating the time to file an objection (36 CFR 219.52(c)(5)). An electronic scan of the legal notice with the publication date will be posted at https://www.fs.usda.gov/nezperceclearwater.

ADDRESSES: The Nez Perce-Clearwater National Forests' revised land management plan, final EIS, draft ROD, and other supporting information will be available for review at: https://www.fs.usda.gov/nezperceclearwater and click on Nez Perce-Clearwater Forest Plan Revision. The Nez Perce-Clearwater National Forests' list of species of conservation concern and other supporting information will be available for review at: http://bit.ly/NorthernRegion-SCC. These web addresses include an objection template as an aid to providing the required information. Please be explicit as to whether the objection is for the land management plan or the species of conservation concern.

Objections must be submitted to the Objection Reviewing Officer by one of the following methods:

• Electronically: Electronic objections must be submitted to the Objection Reviewing Officer via the objection webform at https://cara.fs2c.usda.gov/Public//CommentInput?Project=44089. Electronic submissions must be submitted in a format that is readable with optical character recognition software (e.g., Word, PDF, Rich Text) and be searchable.

• Regular mail, private carrier, or hand delivery: Address to the Objection Reviewing Officer, USDA Forest Service, Northern Region, 26 Fort Missoula Road, Missoula, MT 59804. Office hours are Monday through Friday, 8:00 a.m. to 4:30 p.m., excluding Federal holidays.

• Fax: Objections can be faxed to the Objection Reviewing Officer at (406) 329-3411. The fax coversheet must include a subject line with “Nez Perce-Clearwater Forest Plan Objection” or “Nez Perce-Clearwater Species of Conservation Concern” and should specify the number of pages being submitted.

FOR FURTHER INFORMATION CONTACT: Public and Government Relations Staff Officer Zach Peterson, 1008 Highway 64, Kamiah, Idaho 83536, 208-935-4239. Additional information concerning the draft ROD may be obtained on the internet at the websites listed in the ADDRESSES section of this document.

Individuals who use telecommunication devices for the deaf and hard of hearing (TDD) may call the Federal Relay Service at 800-877-8339, 24 hours a day, every day of the year, including holidays.

SUPPLEMENTARY INFORMATION: The decision to approve the revised land management plan for the Nez Perce-Clearwater National Forests and the Regional Forester's identification of species of conservation concern is subject to the objection process identified in 36 CFR part 219 subpart B (219.50 to 219.62). Per 36 CFR 219.53, only individuals and entities who have submitted substantive formal comments related to a plan revision during the opportunities for public comment that are attributable to the objector may file an objection unless the objection concerns an issue that arose after the opportunities for formal comment.

How To File an Objection

An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector when multiple names are listed on an objection. The Forest Service will communicate to all parties to an objection through the lead objector. Verification of the identity of the lead objector must also be provided if requested;

(4) The name of the plan revision or forest plan amendment being objected to and the name and title of the Responsible Official;

(5) A statement of the issues and/or parts of the plan revision to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a federal law or regulation,

b. Forest Service Directive System documents and land management plans or other published Forest Service documents,

c. Documents referenced by the Forest Service in the planning documentation related to the proposal subject to objection, and

d. Formal comments previously provided to the Forest Service by the objector during the plan revision comment period.

It is the responsibility of the objector to ensure that the Reviewing Officer receives the objection in a timely manner. The regulations prohibit extending the length of the objection filing period.

Responsible Official

The Responsible Official who will approve the record of decision for the Nez Perce-Clearwater National Forests revised land management plan is Cheryl Probert, Forest Supervisor for the Nez Perce-Clearwater National Forests, 1008 Highway 64, Kamiah, Idaho 83536, 208-935-4239. The Responsible Official for the identification of the species of conservation concern for the Nez Perce-Clearwater National Forests is Leanne Marten, Northern Region Regional Forester, 26 Fort Missoula, Missoula, MT 59804.

The Regional Forester is the Reviewing Officer for the revised land management since the Forest Supervisor is the Responsible Official (36 CFR 219.56(e)(2)). Objection review of the list of species of conservation concern will be subject to a separate objection process. The Chief of the Forest Service is the Reviewing Officer for the list of species of conservation concern identification as the Regional Forester is the Responsible Official (36 CFR 219.56(e)(2)).

This authority may be delegated to an individual Deputy Chief or Associate Deputy Chief for the National Forest System, consistent with delegations of authority provided in the Forest Service Manual at sections 1235.4 and 1235.5.

Dated: November 14, 2023.
Troy Heithecker,
Associate Deputy Chief, National Forest System.

[FR Doc. 2023-26162 Filed 11-27-23; 8:45 am]

BILLING CODE 3411-15-P